DEPARTMENT OF HOUSING AND URBAN DEVELOPMENT

[Docket No. FR-5376-N-61]

Public Housing Annual Contributions Contract

AGENCY: Office of the Chief Information Officer, HUD.

ACTION: Notice.

SUMMARY: The proposed information collection requirement described below has been submitted to the Office of Management and Budget (OMB) for review, as required by the Paperwork Reduction Act. The Department is soliciting public comments on the subject proposal.

The public housing program funds low-rent projects owned and operated by public housing agencies (PHAs), subject to terms and conditions contained in an Annual Contributions Contract (ACC) with certain requirements applicable to all project and other requirements applicable to only certain conditions or types of projects. Information collection from PHAs assures compliance with Federal program requirements.

DATES: Comments Due Date: August 6, 2010.

ADDRESSES: Interested persons are invited to submit comments regarding this proposal. Comments should refer to the proposal by name and/or OMB approval Number (2577-New) and should be sent to: HUD Desk Officer, Office of Management and Budget, New Executive Office Building, Washington, DC 20503; fax: 202-395-5806.

FOR FURTHER INFORMATION CONTACT: Leroy McKinney, Jr., Reports Management Officer, QDAM, Department of Housing and Urban Development, 451 Seventh Street, SW., Washington, DC 20410; e-mail Leroy McKinney, Jr. at Leroy.McKinneyJr@hud.gov or telephone (202) 402-5564. This is not a toll-free number. Copies of available documents submitted to OMB may be obtained from Mr. McKinney.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This notice also lists the following information:

Title of Proposal: Public Housing Annual Contributions Contract.

OMB Approval Number: 2577-New.

Form Numbers: Certain information collections do not have companion forms; forms referenced herein include HUD 53012 A and B (Terms and Conditions); HUD 51999 (General Depository Agreements); 52190-A and B (Declaration of Trust); and 52840-A (Capital Fund ACC amendment). HUD forms can be obtained at: http://portal.hud.gov/portal/page/portal/HUD/program_offices/administration/hudclips/forms.

Description of the Need for the Information and Its Proposed Use:

The public housing program funds low-rent projects owned and operated by public housing agencies (PHAs), subject to terms and conditions contained in an Annual Contributions Contract (ACC) with certain requirements applicable to all project and other requirements applicable to only certain conditions or types of projects. Information collection from PHAs assures compliance with Federal program requirements.

Frequency of Submission: State, Local or Tribal Government.

| Number of respondents | Annual responses | × | Hours per response | = | Burden hours
Reporting burden | 625 | 1 |  | 1.192 |  | 745

Total Estimated Burden Hours: 745.

Status: New Collection.

Authority: Section 3507 of the Paperwork Reduction Act of 1995, 44 U.S.C. 35, as amended.

Dated: June 30, 2010.
Leroy McKinney, Jr.,
Departmental Reports Management Officer, Office of the Chief Information Officer.

[FR Doc. 2010-16524 Filed 7-6-10; 8:45 am]

BILLING CODE 4210-67-P